DEPARTMENT OF COMMERCE

National Institute of Standards and Technology

Request for Public Comments on Strategic Plan for the National Windstorm Impact Reduction Program

AGENCY: National Institute of Standards and Technology, Commerce.

ACTION: Notice; request for public comments.

SUMMARY: The National Institute of Standards and Technology (NIST) requests comments on the Draft Strategic Plan for the National Windstorm Impact Reduction Program (NWIRP or Program). The Draft NWIRP Strategic Plan is posted on the NIST Web site at: https://www.nist.gov/el/mssd/nwirp.

DATES: NIST requests comments on the Draft NWIRP Strategic Plan. Comments must be received by May 15, 2017.

ADDRESSES: Written comments may be submitted to NIST in three ways. Comments may be submitted by email to nwirp@nist.gov, by fax to 301-869-6275, or by mail to: National Windstorm Impact Reduction Program, Attention: Dr. Marc Levitan, National Institute of Standards and Technology, 100 Bureau Drive, Stop 8611, Gaithersburg, MD 20899-8615. All comments will be made publicly available without redaction at https://www.nist.gov/el/mssd/nwirp. Accordingly, personal, proprietary or confidential information should not be included.

FOR FURTHER INFORMATION CONTACT: Questions regarding the Draft NWIRP Strategic Plan should be directed to Dr. Marc Levitan, by email at marc.levitan@nist.gov, or by phone at 301-975-5340. Questions about the request for public comments should be directed to Steve Potts, by email at stephen.potts@nist.gov, or by phone at 301-975-5412. Please direct media inquiries to NIST's Office of Public Affairs at 301-975-2762.

SUPPLEMENTARY INFORMATION: The NWIRP was established by Public Law 108-360 Title II and reauthorized in Public Law 114-52 (the National Windstorm Impact Reduction Act Reauthorization of 2015) on September 30, 2015. Congress established NWIRP “to achieve major measurable reductions in the losses of life and property from windstorms through a coordinated Federal effort, in cooperation with other levels of government, academia, and the private sector, aimed at improving the understanding of windstorms and their impacts and developing and encouraging the implementation of cost-effective mitigation measures to reduce those impacts.” 42 U.S.C. 15703(a).

NIST has been designated as the Lead Agency for NWIRP. Other designated Program agencies are the Federal Emergency Management Agency (FEMA), the National Oceanic and Atmospheric Administration (NOAA), and the National Science Foundation (NSF). 42 U.S.C. 15703(b).

As the lead agency, NIST has the primary responsibility for planning and coordinating the Program. This responsibility includes:

• Ensuring that the Program includes the necessary components to promote the implementation of windstorm risk reduction measures;

• Supporting the development of performance-based engineering tools, and working with appropriate groups to promote the commercial application of such tools;

• Requesting the assistance of Federal agencies other than the Program agencies, as necessary;

• Coordinating all Federal post-windstorm investigations to the extent practicable; and

• When warranted by research or investigative findings, issuing recommendations to assist in informing the development of model codes, and providing information to Congress on the use of such recommendations.

Statutory responsibilities for each of the Program agencies include:

NSF—support research in (1) engineering and the atmospheric sciences to improve the understanding of the behavior of windstorms and their impact on buildings, structures, and lifelines; and (2) economic and social factors influencing windstorm risk reduction measures.

NOAA—support atmospheric sciences research to improve the understanding of the behavior of windstorms and their impact on buildings, structures, and lifelines.

NIST—carry out research and development to improve model building codes, voluntary standards, and best practices for the design, construction, and retrofit of buildings, structures, and lifelines.

FEMA—(1) support the development of risk assessment tools and effective mitigation techniques; windstorm-related data collection and analysis; public outreach and information dissemination; and promotion of the adoption of windstorm preparedness and mitigation measures, including for households, businesses, and communities; and (2) work closely with national standards and model building code organizations, in conjunction with NIST, to promote the implementation of research results and better building practices within the building design and construction industry, including architects, engineers, contractors, builders, and inspectors.

The Draft NWIRP Strategic Plan describes the goals, objectives, and strategic priorities needed to accomplish the Program purpose. They were developed following review and assessment of prior national research needs and planning documents, NWIRP Program agency input, and in consideration of stakeholder input. Stakeholder input was obtained through the NWIRP Strategic Planning Stakeholder's Workshop, held at the National Science Foundation on June 17, 2016. This Workshop was attended by over 80 participants from the public and private sectors who engaged in a series of 11 breakout sessions and provided ideas to help shape the Draft NWIRP Strategic Plan.

Request for Public Comments: Persons interested in commenting on the Draft NWIRP Strategic Plan can submit their written comments to NIST in three ways. Comments may be submitted by email to nwirp@nist.gov, by fax to (301) 869-6275, or by mail to: National Windstorm Impact Reduction Program, Attention: Dr. Marc Levitan, National Institute of Standards and Technology, 100 Bureau Drive, Stop 8611, Gaithersburg, MD 20899-8615.

When submitting comments, inclusion of name, affiliation, and contact information (phone number and/or email address in case of questions about the comment) are optional. All comments received in response to this notice will become part of the public record and will be posted on the NIST Web site at https://www.nist.gov/el/mssd/nwirp. Comments containing references, studies, research, and other empirical data that are not widely published should include copies of the referenced materials. All comments will be made publicly available; therefore, personal, proprietary or confidential information should not be included. All comments must be received by NIST by May 15, 2017 in accordance with the DATES and ADDRESSES sections of the notice above. Comments received after this time will not be considered.

Kevin Kimball,
Chief of Staff.

[FR Doc. 2017-04933 Filed 3-13-17; 8:45 am]

BILLING CODE 3510-13-P